DEPARTMENT OF HOMELAND SECURITY

Coast Guard

33 CFR Part 117

[USCG-2008-0480]

Drawbridge Operation Regulations; Piscataqua River, Portsmouth, NH, and Kittery, ME, Public Event

AGENCY: Coast Guard, DHS.

ACTION: Notice of temporary deviation from regulations.

SUMMARY: The Commander, First Coast Guard District, has issued a temporary deviation from the regulation governing the operation of the Memorial (US 1) Bridge across the Piscataqua River at mile 3.5, between Portsmouth, New Hampshire and Kittery, Maine. Under this temporary deviation the bridge may remain in the closed position for one-hour during the Fourth of July fireworks display. This deviation is necessary to facilitate public safety during a public event.

DATES: This deviation is effective from 9:30 p.m. to 10:30 p.m. on July 3, 2008.

ADDRESSES: Documents indicated in this preamble as being available in the docket are part of docket USCG-2008-0480 and are available online at http://www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the First Coast Guard District, Bridge Branch Office, 408 Atlantic Avenue, Boston, Massachusetts 02110, between 7 a.m. and 3 p.m., Monday through Friday, except Federal holidays.

FOR FURTHER INFORMATION CONTACT: John McDonald, Project Officer, First Coast Guard District, at (617) 223-8364.

SUPPLEMENTARY INFORMATION: The Memorial (US 1) Bridge, across the Piscataqua River at mile 3.5, between Portsmouth, New Hampshire and Kittery, Maine, has a vertical clearance in the closed position of 11 feet at mean high water and 19 feet at mean low water. The existing drawbridge operation regulations are listed at 33 CFR 117.531.

The owner of the bridge, New Hampshire Department of Transportation, requested a temporary deviation to facilitate public safety during the Fourth of July fireworks display on July 3, 2008.

Under this temporary deviation the Memorial (US 1) Bridge may remain in the closed position from 9:30 p.m. to 10:30 p.m. on July 3, 2008. Vessels that can pass under the bridge without a bridge opening may do so at all times.

In accordance with 33 CFR 117.35(e), the bridge must return to its regular operating schedule immediately at the end of the designated time period. This deviation from the operating regulations is authorized under 33 CFR 117.35.

Dated: June 10, 2008.
Gary Kassof,
Bridge Program Manager, First Coast Guard District.

[FR Doc. E8-13862 Filed 6-18-08; 8:45 am]

BILLING CODE 4910-15-P